DEPARTMENT OF EDUCATION

Applications for New Awards; Teacher Incentive Fund

AGENCY: Office of Elementary and Secondary Education, Department of Education.

ACTION: Notice.

Overview Information

Teacher Incentive Fund; General TIF Competition and TIF Competition with a Focus on STEM. Notice inviting applications for new awards for fiscal year (FY) 2012.

Catalog of Federal Domestic Assistance (CFDA) Numbers: 84.374A and 84.374B.

DATES: Applications Available: June 14, 2012.

Deadline for Notice of Intent to Apply: June 26, 2012.

Dates of Pre-Application Workshops: Visit the Teacher Incentive Fund's Web site at: http://www2.ed.gov/programs/teacherincentive/applicant.html for more information about TIF Pre-Application Workshops.

Deadline for Transmittal of Applications: July 27, 2012.

Deadline for Intergovernmental Review: September 25, 2012.

Full Text of Announcement

I. Funding Opportunity Description

Purpose of Program: The purpose of the TIF program is to support the development and implementation of sustainable performance-based compensation systems (PBCSs) for teachers, principals, and other personnel in high-need schools in order to increase educator effectiveness and student achievement in those schools.

Priorities: This notice contains five priorities, three of which are absolute priorities and two of which are competitive preference priorities. These priorities are from the notice of final priorities, requirements, definitions, and selection criteria for this program, published elsewhere in this issue of the Federal Register.

Absolute Priorities: For FY 2012 and any subsequent year in which we make awards from the list of unfunded applicants from the General TIF Competition and the TIF Competition with a Focus on STEM (CFDA 84.374A and 84.374B), the first two priorities, Priority 1—A Local educational agency (LEA)-wide Human Capital Management System (HCMS) with Educator Evaluation Systems at the Center and Priority 2—LEA-wide Educator Evaluation Systems Based, in Significant Part, on Student Growth, are absolute priorities. For FY 2012 and any subsequent year in which we make awards from the list of unfunded applicants from the TIF Competition with a Focus on STEM (CFDA 84.374B), the third priority, Priority 3—Improving Student Achievement in Science, Technology, Engineering, and Mathematics (STEM), is an absolute priority. Under 34 CFR 75.105(c)(3) we will only approve applications that meet either the first two or all three of these applicable absolute priorities. The following chart illustrates which absolute priorities apply to each competition:

Competition | Absolute priorities
TIF General Competition (CFDA 84.374A) | • Priority 1—An LEA-wide Human Capital Management System (HCMS) with Educator Evaluation Systems at the Center.
| • Priority 2—LEA-wide Educator Evaluation Systems Based, in Significant Part, on Student Growth.
TIF Competition with a Focus on STEM (CFDA 84.374B) | • Priority 1—An LEA-wide Human Capital Management System (HCMS) with Educator Evaluation Systems at the Center.
| • Priority 2—LEA-wide Educator Evaluation Systems Based, in Significant Part, on Student Growth.
| • Priority 3—Improving Student Achievement in Science, Technology, Engineering, and Mathematics (STEM).

These priorities are:

Priority 1 (Absolute): An LEA-Wide Human Capital Management System (HCMS) With Educator Evaluation Systems at the Center

To meet this priority, the applicant must include, in its application, a description of its LEA-wide HCMS, as it exists currently and with any modifications proposed for implementation during the project period of the grant. The application must describe—

(1) How the HCMS is or will be aligned with the LEA's vision of instructional improvement;

(2) How the LEA uses or will use the information generated by the evaluation systems it describes in its application to inform key human capital decisions, such as decisions on recruitment, hiring, placement, retention, dismissal, compensation, professional development, tenure, and promotion;

(3) The human capital strategies the LEA uses or will use to ensure that high-need schools are able to attract and retain effective educators; and

(4) Whether or not modifications are needed to an existing HCMS to ensure that it includes the features described in response to paragraphs (1), (2), and (3) of this priority, and a timeline for implementing the described features, provided that the use of evaluation information to inform the design and delivery of professional development and the award of performance-based compensation under the applicant's proposed PBCS in high-need schools begins no later than the third year of the grant's project period in the high-need schools listed in response to paragraph (a) of Requirement 3—Documentation of High-Need Schools.

Note: TIF funds can be used to support the costs of the systems and strategies described under this priority, Priority 3—Improving Student Achievement in Science, Technology, Engineering, and Mathematics (STEM), and Priority 5—An Educator Salary Structure Based on Effectiveness only to the extent allowed under Requirement 6—Use of TIF Funds to Support the PBCS.

Priority 2 (Absolute): LEA-Wide Educator Evaluation Systems Based, in Significant Part, on Student Growth

To meet this priority, an applicant must include, as part of its application, a plan describing how it will develop and implement its proposed LEA-wide educator evaluation systems. The plan must describe—

(1) The frequency of evaluations, which must be at least annually;

(2) The evaluation rubric for educators that includes at least three performance levels and the following—

(i) Two or more observations during each evaluation period;

(ii) Student growth, which for the evaluation of teachers with regular instructional responsibilities must be growth at the classroom level; and

(iii) Additional factors determined by the LEA;

(3) How the evaluation systems will generate an overall evaluation rating that is based, in significant part, on student growth; and

(4) The applicant's timeline for implementing its proposed LEA-wide educator evaluation systems. Under the timeline, the applicant must implement these systems as the LEA's official evaluation systems for assigning overall evaluation ratings for at least a subset of educators or schools no later than the beginning of the second year of the grant's project period. The applicant may phase in the evaluation systems by applying them, over time, to additional schools or educators so long as the new evaluation systems are the official evaluation systems the LEA uses to assign overall evaluation ratings for all educators within the LEA no later than the beginning of the third year of the grant's project period.

Priority 3 (Absolute): Improving Student Achievement in Science, Technology, Engineering, and Mathematics (STEM)

To meet this priority, an applicant must include a plan in its application that describes the applicant's strategies for improving instruction in STEM subjects through various components of each participating LEA's HCMS, including its professional development, evaluation systems, and PBCS. At a minimum, the plan must describe—

(1) How each LEA will develop a corps of STEM master teachers who are skilled at modeling for peer teachers pedagogical methods for teaching STEM skills and content at the appropriate grade level by providing additional compensation to teachers who—

(i) Receive an overall evaluation rating of effective or higher under the evaluation system described in the application;

(ii) Are selected based on criteria that are predictive of the ability to lead other teachers;

(iii) Demonstrate effectiveness in one or more STEM subjects; and

(iv) Accept STEM-focused career ladder positions;

(2) How each LEA will identify and develop the unique competencies that, based on evaluation information or other evidence, characterize effective STEM teachers;

(3) How each LEA will identify hard-to-staff STEM subjects, and use the HCMS to attract effective teachers to positions providing instruction in those subjects;

(4) How each LEA will leverage community support, resources, and expertise to inform the implementation of its plan;

(5) How each LEA will ensure that financial and non-financial incentives, including performance-based compensation, offered to reward or promote effective STEM teachers are adequate to attract and retain persons with strong STEM skills in high-need schools; and

(6) How each LEA will ensure that students have access to and participate in rigorous and engaging STEM coursework.

Competitive Preference Priorities: For FY 2012 and any subsequent year in which we make awards from the list of unfunded applicants from the competitions announced in this notice, the following two priorities are competitive preference priorities: Priority 4 (Competitive Preference)—New or Rural Applicants to the Teacher Incentive Fund and Priority 5 (Competitive Preference)—An Educator Salary Structure Based on Effectiveness. Under 34 CFR 75.105(c)(2)(i) we award up to an additional 30 points to an application, depending on how well the application meets one or more of these priorities.

Priority 4 (Competitive Preference): New or Rural Applicants to the Teacher Incentive Fund (Up to 10 Total Points)

To meet this priority, an applicant must provide at least one of the two following assurances, which the Department accepts:

(a) An assurance that each LEA to be served by the project has not previously participated in a TIF-supported project.

(b) An assurance that each LEA to be served by the project is a rural local educational agency (as defined in this notice).

Note: An applicant that proposes to serve only LEAs that have not previously participated in a TIF-supported project may earn 6 points. An applicant that proposes to serve only rural LEAs may earn 10 points. An applicant may not receive more than 10 points under this priority. In other words, an applicant that meets both paragraph (a) and (b) of this priority may receive no more than 10 total points.

Priority 5 (Competitive Preference): An Educator Salary Structure Based on Effectiveness (Up to 20 Additional Points)

To meet this priority, an applicant must propose, as part of its PBCS, a timeline for implementing no later than in the fifth year of the grant's project period a salary structure based on effectiveness for both teachers and principals. As part of this proposal, an applicant must describe—

(a) The extent to which and how each LEA will use overall evaluation ratings to determine educator salaries;

(b) How each LEA will use TIF funds to support the salary structure based on effectiveness in the high-need schools listed in response to Requirement 3(a); and

(c) The extent to which the proposed implementation is feasible, given that implementation will depend upon stakeholder support and applicable LEA-level policies.

Note: To meet Priority 2 (Absolute)—LEA-wide Educator Evaluation Systems Based, in Significant Part, on Student Growth, an applicant must implement its proposed PBCS in the high-need schools listed in response to paragraph (a) of Requirement 3—Documentation of High-Need Schools by the beginning of the third year of the grant's project period. If the timeline for implementing the salary structure proposed under this Priority 5 does not meet that deadline, the applicant must describe, under Requirement 1—Performance-Based Compensation for Teachers, Principals, and Other Personnel, a proposed PBCS that the LEA will implement until the proposed salary structure is implemented.

Requirements:

The following requirements, which are from the notice of final priorities, requirements, definitions, and selection for this program, published elsewhere in this issue of the Federal Register, apply to the competitions announced in this notice.

Requirement 1—Performance-Based Compensation for Teachers, Principals, and Other Personnel

In its application, an applicant must describe, for each participating LEA, how its proposed PBCS will meet the definition of a PBCS set forth in this notice.

Note: The following charts illustrate how an applicant can design its PBCS to meet the definition of a PBCS. Chart 1 describes the two types of design models that meet the statutory requirements. Chart 2 identifies additional optional features that could be implemented as part of a PBCS. To ensure that funded applications reflect a diversity of PBCSs, the Secretary reserves the right to fund a sufficient number of high-quality Design Model 1 and Design Model 2 projects, as shown in Chart 1.

Chart 1—PBCS Design Options To Meet Statutory Requirements
Design model | Mandatory elements
1 * | Proposed PBCS provides both of the following:
*Corresponds to paragraph (a)(1) of the PBCS definition | (1) Additional compensation for teachers and principals who receive an overall rating of effective or higher under the evaluation systems described in the application.
| (2) Of those teachers and principals eligible for compensation under paragraph (1), additional compensation for teachers and, at the applicant's discretion, for principals, who take on additional responsibilities and leadership roles (as defined in this notice).
2 * | Proposed PBCS provides both of the following:
*Corresponds to paragraph (a)(2) of the PBCS definition | (1) Additional compensation for teachers who receive an overall rating of effective or higher under the evaluation system described in the application and who take on career ladder positions (as defined in this notice).
| (2) Additional compensation for one or both of the following:
| (A) Principals who receive an overall rating of effective or higher under the evaluation system described in the application, or
| (B) Principals who receive an overall rating of effective or higher under the evaluation system described in the application and who take on additional responsibilities and leadership roles (as defined in this notice).

Chart 2—PBCS Optional Features
| Optional elements
Compensation for Transfers to High-Need Schools | Proposed PBCS provides additional compensation for educators (which at the applicant's option may be for teachers or principals or both) who receive an overall rating of effective or higher under the evaluation systems described in the application or under comparable evaluation systems in another LEA, and who either:
| (1) Transfer to a high-need school from a school of the LEA that is not high-need, or
| (2) For educators who previously worked in another LEA, are hired to work in a high-need school.
Compensation for Other Personnel | Proposed PBCS provides additional compensation for other personnel, who are not teachers or principals, based on performance standards established by the LEA so long as those standards, in significant part, include student growth, which may be school-level student growth.

Requirement 2—Involvement and Support of Teachers and Principals

In its application, the applicant must include—

(a) Evidence that educators in each participating LEA have been involved, and will continue to be involved, in the development and implementation of the PBCS and evaluation systems described in the application;

(b) A description of the extent to which the applicant has educator support for the proposed PBCS and educator evaluation systems; and

(c) A statement indicating whether a union is the exclusive representative of either teachers or principals in each participating LEA.

Note: It is the responsibility of the grantee to ensure that, in observing the rights, remedies, and procedures afforded school or school district employees under Federal, State, or local laws (including applicable regulations or court orders) or under terms of collective bargaining agreements, memoranda of understanding, or other agreements between these employees and their employers, the grantee also remains in compliance with the priorities, requirements, and definitions included in this notice. In the event that a grantee is unable to comply with these priorities, requirements, and definitions, the Department may take appropriate enforcement action (e.g., discontinue support for the project).

Requirement 3—Documentation of High-Need Schools

Each applicant must demonstrate, in its application, that the schools participating in the implementation of the TIF-funded PBCS are high-need schools (as defined in this notice), including high-poverty schools (as defined in this notice), priority schools (as defined in this notice), or persistently lowest-achieving schools (as defined in this notice). Each applicant must provide, in its application—

(a) A list of high-need schools in which the proposed TIF-supported PBCS would be implemented;

(b) For each high-poverty school listed, the most current data on the percentage of students who are eligible for free or reduced-price lunch subsidies under the Richard B. Russell National School Lunch Act or are considered students from low-income families based on another poverty measure that the LEA uses (see section 1113(a)(5) of the Elementary and Secondary Education Act of 1965, as amended (ESEA) (20 U.S.C. 6313(a)(5))). Data provided to demonstrate eligibility as a high-poverty school must be school-level data; the Department will not accept LEA- or State-level data for purposes of documenting whether a school is a high-poverty school; and

(c) For any priority schools listed, documentation verifying that the State has received approval of a request for ESEA flexibility, and that the schools have been identified by the State as priority schools.

Requirement 4—SEA and Other Group Applications

(a) Applications from the following are group applications:

(1) Any application from two or more LEAs.

(2) Any application that includes one or more SEAs.

(3) Any application that includes a nonprofit organization.

(b) An applicant that is a nonprofit organization must apply in a partnership that includes one or more LEAs, and must identify in the application the LEA(s) and any SEA(s) with which the proposed project would be implemented.

(c) An applicant that is an SEA must apply for a grant under this program as part of a group application that includes one or more LEAs in the same State as the SEA, and must identify in the application the LEA(s) in which the project would be implemented.

(d) All group applications must include a Memorandum of Understanding (MOU) or other binding agreement signed by all of the members of the group. At a minimum, the MOU or other agreement must include—

(1) A commitment by each participating LEA to implement the HCMS, including the educator evaluation systems and the PBCS, described in the application;

(2) An identification of the lead applicant;

(3) A description of the responsibilities of the lead applicant in managing any grant funds and ensuring overall implementation of the proposed project as described in the application if approved by the Department;

(4) A description of the activities that each member of the group will perform; and

(5) A statement binding each member of the group to every statement and assurance made in the application.

(e) In any group application identified in paragraph (a) of this requirement, each entity in the group is considered a grantee.

Requirement 5—Limitations on Multiple Applications

(a) An LEA applicant may participate in no more than one application in any fiscal year.

(b) An SEA applicant may participate in no more than one group application for the General TIF Competition, and no more than one group application for the TIF Competition with a Focus on STEM in any fiscal year.

(c) A nonprofit organization applicant may participate in one or more group applications for the General TIF Competition, and in one or more applications for the TIF Competition with a Focus on STEM, in any fiscal year.

Requirement 6—Use of TIF Funds To Support the PBCS

(a) LEA-wide Improvements to Systems and Tools. TIF funds may be used to develop and improve systems and tools that support the PBCS and benefit the entire LEA.

(b) Performance-based Compensation and Professional Development.

(1) High-Need Schools. TIF funds may be used to provide performance-based compensation and related professional development in the high-need schools listed in response to paragraph (a) of Requirement 3—Documentation of High-Need Schools. TIF funds may not be used to provide performance-based compensation or related professional development in schools other than those high-need schools listed in response to paragraph (a) of Requirement 3—Documentation of High-Need Schools.

(2) PBCSs. TIF funds may be used to compensate educators only when the compensation is provided as part of the LEA's PBCS, as described in the application.

(3) For Additional Responsibilities and Leadership Roles. When a proposed PBCS provides additional compensation to effective educators who take on additional responsibilities and leadership roles, TIF funds may be used for either the entire amount of salary for career ladder positions, or for salary augmentations (i.e., an additional amount of compensation over and above what the LEA would otherwise pay the effective teacher), or both. TIF-funds may be used to fund additional compensation for additional responsibilities and leadership roles up to the cost of 1 full-time equivalent position for every 12 teachers, who are not in a career ladder position, located in the high-need schools listed in response to Requirement 3(a).

(c) Other Permissible Types of Compensation. Nothing in this requirement precludes the use of TIF funds to compensate educators who are hired by a grantee to administer or implement the TIF-supported PBCS, or to compensate educators who attend TIF-supported professional development outside their official duty hours, or to develop or improve systems and tools needed to support the PBCS.

Requirement 7—Limitation on Using TIF Funds in High-Need Schools Served by Existing TIF Grants

Each applicant must provide an assurance, in its application, that, if successful under this competition, it will use the grant award to implement the proposed PBCS and professional development only in high-need schools that are not served, as of the beginning of the grant's project period or as planned in the future, by an existing TIF grant.

Definitions:

The following definitions, which are from the notice of final priorities, requirements, definitions, and selection criteria for this program, published elsewhere in this issue of the Federal Register, apply to the competitions announced in this notice.

Additional responsibilities and leadership roles means:

(a) In the case of teachers, meaningful school-based responsibilities that teachers may voluntarily accept to strengthen instruction or instructional leadership in a systemic way, such as additional responsibilities related to lesson study, professional development, and peer evaluation, and may also include career ladder positions.

(b) In the case of principals, additional responsibilities and leadership roles that principals may voluntarily accept, such as a position in which an effective principal coaches a novice principal.

Career ladder positions means school-based instructional leadership positions designed to improve instructional practice, which teachers may voluntarily accept, such as positions described as master teacher, mentor teacher, demonstration or model teacher, or instructional coach, and for which teachers are selected based on criteria that are predictive of the ability to lead other teachers.

Educators means teachers and principals.

High-need school means:

(a) A high-poverty school, or

(b) A persistently lowest-achieving school, or

(c) In the case of States that have received the Department's approval of a request for ESEA flexibility, a priority school.

High-poverty school means a school with 50 percent or more of its enrollment from low-income families, based on eligibility for free or reduced-price lunch subsidies under the Richard B. Russell National School Lunch Act, or other poverty measures that LEAs use (see section 1113(a)(5) of the ESEA (20 U.S.C. 6313(a)(5)). For middle and high schools, eligibility may be calculated on the basis of comparable data from feeder schools. Eligibility as a high-poverty school under this definition is determined on the basis of the most currently available data.

Human capital management system (HCMS) means a system by which an LEA makes and implements human capital decisions, such as decisions on recruitment, hiring, placement, retention, dismissal, compensation, professional development, tenure, and promotion.

Other personnel means school-based personnel who are not serving in a teacher or principal position. Other personnel may include, for example, school counselors, media specialists, or para-educators.

Performance-based compensation system (PBCS) means a system that:

(a) Provides additional compensation for teachers and principals in one of the following circumstances—

(1)(i) Design Model 1. Additional compensation for teachers and principals who receive an overall evaluation rating of effective or higher under the evaluation systems described in the application; and

(ii) Of those teachers and principals eligible for compensation under paragraph (a)(1)(i) of this definition, additional compensation for teachers and, at the applicant's discretion, for principals, who take on additional responsibilities and leadership roles; or

(2)(i) Design Model 2. Additional compensation for teachers who receive an overall evaluation rating of effective or higher under the evaluation system described in the application and who take on career ladder positions; and

(ii) Additional compensation for (A) principals who receive an overall evaluation rating of effective or higher under the evaluation system described in the application, or (B) principals who receive an overall evaluation rating of effective or higher under the evaluation system described in the application and who take on additional responsibilities and leadership roles.

(b) May provide the following compensation:

(1) Additional compensation for educators (which at the applicant's option may be for teachers or principals or both) who receive an overall evaluation rating of effective or higher under the evaluation systems described in the application or under comparable evaluation systems in another LEA, and who either: (i) transfer to a high-need school from a school of the LEA that is not high-need, or, (ii) for educators who previously worked in another LEA, are hired to work in a high-need school.

(2) Additional compensation for other personnel, who are not teachers or principals, based on performance standards established by the LEA so long as those standards, in significant part, include student growth, which may be school-level student growth.

Persistently lowest-achieving school means, as determined by the State:

(i) Any Title I school in improvement, corrective action, or restructuring that—

(a) Is among the lowest-achieving five percent of Title I schools in improvement, corrective action, or restructuring or the lowest-achieving five Title I schools in improvement, corrective action, or restructuring in the State, whichever number of schools is greater; or

(b) Is a high school that has had a graduation rate as defined in 34 CFR 200.19(b) that is less than 60 percent over a number of years; and

(ii) Any secondary school that is eligible for, but does not receive, Title I funds that—

(a) Is among the lowest-achieving five percent of secondary schools or the lowest-achieving five secondary schools in the State that are eligible for, but do not receive, Title I funds, whichever number of schools is greater; or

(b) Is a high school that has had a graduation rate as defined in 34 CFR 200.19(b) that is less than 60 percent over a number of years.

To identify the persistently lowest achieving schools, a State must take into account both:

(i) The academic achievement of the “all students” group in a school in terms of proficiency on the State's assessments under section 1111(b)(3) of the ESEA in reading/language arts and mathematics combined; and

(ii) The school's lack of progress on those assessments over a number of years in the “all students” group.

Principal means any person who meets the definition of that term under State or local law. At an LEA's discretion, it may also include an assistant or vice principal or a person in a position that contributes to the organizational management or instructional leadership of a school.

Priority school means a school that has been identified by the State as a priority school pursuant to the State's approved request for Elementary and Secondary Education Act (ESEA) flexibility.

Rural local educational agency means an LEA that is eligible under the Small Rural School Achievement program or the Rural and Low-Income School program authorized under Title VI, Part B of the ESEA. Applicants may determine whether a particular LEA is eligible for these programs by referring to information on the Department's Web site at http://www2.ed.gov/nclb/freedom/local/reap.html.

Student growth means the change in student achievement for an individual student between two or more points in time. For the purpose of this definition, student achievement means—

(a) For grades and subjects in which assessments are required under section 1111(b)(3) of ESEA: (1) A student's score on such assessments and may include (2) other measures of student learning, such as those described in paragraph (b) of this definition, provided those measures are rigorous and comparable across schools within an LEA.

(b) For grades and subjects in which assessments are not required under section 1111(b)(3) of ESEA: alternative measures of student learning and performance such as student results on pre-tests, end-of-course tests, and objective performance-based assessments; student learning objectives; student performance on English language proficiency assessments; and other measures of student achievement that are rigorous and comparable across schools within an LEA.

Teacher means any person who meets the definition of that term under State or local law.

Vision of instructional improvement means a summary of the key competencies and behaviors of effective teaching that an LEA views as necessary to produce high levels of student achievement, as well as how educators acquire or improve these competencies and behaviors.

Program Authority: The Department of Education Appropriations Act, 2012 (Division F, Title III of Pub. L. 112-74).

Applicable Regulations: (a) The Education Department General Administrative Regulations (EDGAR) in 34 CFR parts 74, 75, 77, 79, 80, 81, 82, 84, 86, 97, 98, and 99. (b) The Education Department suspension and debarment regulations in 2 CFR part 3485. (c) The notice of final priorities, requirements, definitions, and selection criteria for this program, published elsewhere in this issue of the Federal Register.

Note: The regulations in 34 CFR part 79 apply to all applicants except federally recognized Indian tribes.

Note: The regulations in 34 CFR part 86 apply to institutions of higher education only.

II. Award Information

Type of Award: Discretionary grants.

Estimated Available Funds: $284,461,350.

Contingent upon the availability of funds and the quality of applications, we may make additional awards in FY 2013 from the list of unfunded applicants from the competitions announced in this notice.

Estimated Range of Awards: $500,000-$12,000,000 for the first year of the project period. Funding for the second through fifth years of the project period is subject to the availability of funds and the approval of continuation awards (see 34 CFR 75.253).

Estimated Average Size of Awards: $10,000,000 for the first year of the project period. Funding for the second through fifth years of the project period is subject to the availability of funds and the approval of continuation awards (see 34 CFR 75.253).

Estimated Number of Awards: 30.

Note: The Department is not bound by any estimates in this notice.

Project Period: Up to 60 months.

III. Eligibility Information

1. Eligible Applicants:

(a) LEAs, including charter schools that are LEAs.

(b) States that apply with one or more LEAs.

(c) Nonprofit organizations that apply in partnership with an LEA or an LEA and State.

2. Cost Sharing or Matching: This program does not require cost sharing or matching.

IV. Application and Submission Information

1. Address to Request Application Package:

Miriam Lund, U.S. Department of Education, 400 Maryland Avenue SW., Room 3E245, LBJ Building, Washington, DC 20202-6200. Telephone: (202) 205-5224 or by email: TIF4@ed.gov.

If you use a telecommunications device for the deaf (TDD) or a text telephone (TTY), call the Federal Relay Service (FRS), toll free, at 1-800-877-8339.

Individuals with disabilities can obtain a copy of the application package in an accessible format (e.g., braille, large print, audiotape, or compact disc) by contacting the program contact person listed in this section.

2. Content and Form of Application Submission: Requirements concerning the content of an application, together with the forms you must submit, are in the application package for this program.

Notice of Intent to Apply: We will be able to develop a more efficient process for reviewing grant applications if we understand the number of applicants that intend to apply for funding under these competitions. Therefore, the Secretary strongly encourages each potential applicant to notify us of the applicant's intent to submit an application for funding by sending a short email message. This short email should provide (1) the applicant organization's name and address, (2) the competition for which the applicant intends to apply (i.e., the TIF General Competition or the TIF Competition with a Focus on STEM), and (3) all competitive preference priorities the applicant intends to address. The Secretary requests that this email notification be sent to tif4@ed.gov with “Intent to Apply” in the email subject line. Applicants that do not provide this email notification may still apply for funding.

Page Limit: The application narrative is where you, the applicant, address the selection criteria that reviewers use to evaluate your application. Please limit the application narrative to no more than 60 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The suggested page limit does not apply to the cover sheet; the budget section, including the narrative budget justification; the assurances and certifications; or the one-page abstract, the resumes, the bibliography, or the letters of support. However, the suggested page limit does apply to all of the application narrative section.

3. Submission Dates and Times:

Applications Available: June 14, 2012.

Deadline for Notice of Intent to Apply: June 26, 2012.

Deadline for Transmittal of Applications: July 27, 2012.

Pre-application workshops will be held for this competition in June. The workshops are intended to provide technical assistance to all interested grant applicants. Detailed information regarding the pre-application workshops times, and on-line registration form, can be found on the Teacher Incentive Fund's Web site at http://www2.ed.gov/programs/0teacherincentive/applicant.html.

Applications for grants under this program must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: September 25, 2012.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements:

Applications for grants under this program must be submitted electronically unless you qualify for an exception to this requirement in accordance with the instructions in this section.

a. Electronic Submission of Applications

Applications for grants under the Teacher Incentive Fund, CFDA number 84.374A, the General TIF Competition and 84.374B, the TIF Competition with a Focus on STEM, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Teacher Incentive Fund competitions at www.Grants.gov. You must search for the downloadable application package for this program by the CFDA number. Do not include the CFDA number's alpha suffix in your search (e.g., search for 84.374, not 84.374A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov under News and Events on the Department's G5 system home page at http://www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because--

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail your statement to: Miriam Lund, U.S. Department of Education, 400 Maryland Avenue SW., Room, 3E245, Washington, DC, 20202-6200.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address: U.S. Department of Education, Application Control Center, Attention: (CFDA Number 84.374A for the General TIF Competition or CFDA Number 84.374B for the TIF Competition with a Focus on STEM), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application by hand, on or before the application deadline date, to the Department at the following address: U.S. Department of Education, Application Control Center, Attention: (CFDA Number 84.374A for the General TIF Competition or CFDA Number 84.374B for the TIF Competition with a Focus on STEM), 550 12th Street SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from the notice of final priorities, requirements, definitions, and selection criteria for this program, published elsewhere in this edition of the Federal Register. The points or weights assigned to each criterion are indicated in parentheses. Non-Federal peer reviewers will review each application. They will be asked to evaluate and score each program narrative against the following selection criteria.

Selection Criteria (a) through (f) apply to both the General TIF Competition and the TIF Competition with a Focus on STEM. Selection Criteria (g) applies only to applicants applying to the TIF Competition with a Focus on STEM.

The maximum score for all of the General TIF Competition selection criteria is 200 points. The maximum score for the TIF Competition with a Focus on STEM is 225 points. The maximum score for each criterion and subcriterion is indicated in parentheses. The selection criteria for these competitions are as follows:

(a) A Coherent and Comprehensive Human Capital Management System (HCMS). (45 points) We will consider the quality and comprehensiveness of each participating LEA's HCMS as described in the application. In determining the quality of the HCMS, as it currently exists and as the applicant proposes to modify it during the grant period, we will consider the extent to which the HCMS described in the application is—

(1) Aligned with each participating LEA's clearly described vision of instructional improvement (10 points); and

(2) Likely to increase the number of effective educators in the LEA's schools, especially in high-need schools, as demonstrated by (35 points)—

(i) The range of human capital decisions for which the applicant proposes to consider educator effectiveness—based on the educator evaluation systems described in the application.

(ii) The weight given to educator effectiveness—based on the educator evaluation systems described in the application—when human capital decisions are made;

(iii) The feasibility of the HCMS described in the application, including the extent to which the LEA has prior experience using information from the educator evaluation systems described in the application to inform human capital decisions, and applicable LEA-level policies that might inhibit or facilitate modifications needed to use educator effectiveness as a factor in human capital decisions;

(iv) The commitment of the LEA's leadership to implementing the described HCMS, including all of its component parts; and

(v) The adequacy of the financial and nonfinancial strategies and incentives, including the proposed PBCS, for attracting effective educators to work in high-need schools and retaining them in those schools.

(b) Rigorous, Valid, and Reliable Educator Evaluation Systems. (35 points) We will consider, for each participating LEA, the quality of the educator evaluation systems described in the application. In determining the quality of each evaluation system, we will consider the extent to which—

(1) Each participating LEA has finalized a high-quality evaluation rubric, with at least three performance levels (e.g., highly effective, effective, developing, unsatisfactory), under which educators will be evaluated (2 points);

(2) Each participating LEA has presented (4 points)—

(i) A clear rationale to support its consideration of the level of student growth achieved in differentiating performance levels; and

(ii) Evidence, such as current research and best practices, supporting the LEA's choice of student growth models and demonstrating the rigor and comparability of assessments;

(3) Each participating LEA has made substantial progress in developing a high-quality plan for multiple teacher and principal observations, including identification of the persons, by position and qualifications, who will be conducting the observations, the observation tool, the events to be observed, the accuracy of raters in using observation tools and the procedures for ensuring a high degree of inter-rater reliability (13 points);

(4) The participating LEA has experience measuring student growth at the classroom level, and has already implemented components of the proposed educator evaluation systems (4 points);

(5) In the case of teacher evaluations, the proposed evaluation system (6 points)—

(i) Bases the overall evaluation rating for teachers, in significant part, on student growth;

(ii) Evaluates the practice of teachers, including general education teachers and teachers of special student populations, in meeting the needs of special student populations, including students with disabilities and English learners;

(6) In the case of principal evaluations, the proposed evaluation system (6 points)—

(i) Bases the overall evaluation rating on, in significant part, student growth; and

(ii) Evaluates, among other factors, a principal's practice in—

(A) Focusing every teacher, and the school community generally, on student growth;

(B) Establishing a collaborative school culture focused on continuous improvement; and

(C) Supporting the academic needs of special student populations, including students with disabilities and English learners, for example, by creating systems to support successful co-teaching practices, providing resources for research-based intervention services, or similar activities.

(c) Professional Development Systems to Support the Needs of Teachers and Principals Identified Through the Evaluation Process. (35 points) We will consider the extent to which each participating LEA has a high-quality plan for professional development to help all educators located in high-need schools, listed in response to Requirement 3(a), to improve their effectiveness. In determining the quality of each plan for professional development, we will consider the extent to which the plan describes how the participating LEA will—

(1) Use the disaggregated information generated by the proposed educator evaluation systems to identify the professional development needs of individual educators and schools (8 points);

(2) Provide professional development in a timely way (2 points);

(3) Provide school-based, job-embedded opportunities for educators to transfer new knowledge into instructional and leadership practices (5 points); and

(4) Provide professional development that is likely to improve instructional and leadership practices, and is guided by the professional development needs of individual educators as identified in paragraph (c)(1) of this criterion (20 points).

(d) Involvement of Educators. (35 points) We will consider the quality of educator involvement in the development and implementation of the proposed PBCS and educator evaluation systems described in the application. In determining the quality of such involvement, we will consider the extent to which—

(1) The application contains evidence that educator involvement in the design of the PBCS and the educator evaluation systems has been extensive and will continue to be extensive during the grant period (10 points); and

(2) The application contains evidence that educators support the elements of the proposed PBCS and the educator evaluation systems described in the application (25 points).

(e) Project Management. (30 points) We will consider the quality of the management plan of the proposed project. In determining the quality of the management plan, we will consider the extent to which the management plan—

(1) Clearly identifies and defines the roles and responsibilities of key personnel (3 points);

(2) Allocates sufficient human resources to complete project tasks (5 points);

(3) Includes measurable project objectives and performance measures (5 points); and

(4) Includes an effective project evaluation plan (5 points);

(5) Specifies realistic and achievable timelines for:

(i) Implementing the components of the HCMS, PBCS, and educator evaluation systems, including any proposal to phase in schools or educators (8 points).

(ii) Successfully completing project tasks and achieving objectives (4 points).

(f) Sustainability. (20 points) We will consider the quality of the plan to sustain the proposed project. In determining the quality of the sustainability plan, we will consider the extent to which the sustainability plan—

(1) Identifies and commits sufficient non-TIF resources, financial and nonfinancial, to support the PBCS and educator evaluation systems during and after the grant period (10 points); and

(2) Is likely to be implemented and, if implemented, will result in a sustained PBCS and educator evaluation systems after the grant period ends (10 points).

(g) Comprehensive Approach to Improving STEM Instruction. (25 points) To meet Priority 3, we will consider the quality of an applicant's plan for improving educator effectiveness in STEM instruction. In determining the quality of the plan, we will consider the extent to which—

(1) The financial and nonfinancial strategies and incentives, including the proposed PBCS, are adequate for attracting effective STEM educators to work in high-need schools and retaining them in these schools (4 points);

(2) The proposed professional development opportunities—

(a) Will provide college-level STEM skills and content knowledge to STEM teachers while modeling for teachers pedagogical methods for teaching those skills and that content at the appropriate grade level (4 points); and

(b) Will enable STEM teachers to provide students in high-need schools with increased access to rigorous and engaging STEM coursework appropriate for their grade level, including college-level material in high schools (7 points);

(3) The applicant will significantly leverage STEM-related funds across other Federal, State, and local programs to implement a high-quality and comprehensive STEM plan (7 points); and

(4) The applicant provides evidence (e.g., letters of support) that the LEA has or will develop extensive relationships with STEM experts and resources in industry, academic institutions, or associations to effectively implement its STEM plan and ensure that instruction prepares students to be college-and-career ready (3 points).

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under one the competitions announced in this notice, you must ensure that you have in place the necessary processes and systems to comply with the reporting requirements in 2 CFR part 170 should you receive funding under one of the competitions. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Pursuant to the Government Performance and Results Act of 1993, the Department has established the following performance measures that it will use to evaluate the overall effectiveness of the grantee's project, as well as the TIF program as a whole:

Measure 1. The number of teachers and principals, who are rated at the highest level, at least effective, and not effective, as measured by the district's evaluation system and the number who are not rated.

Measure 2. The number of teachers teaching in a high-need field or subject, such as teaching English learners, students with disabilities, or STEM, who are rated at the highest level, at least effective, and not effective, as measured by the district's evaluation system and the number who are not rated.

Measure 3. The number of teachers and principals who were rated at the highest level, at least effective, and not effective, as measured by the district's evaluation system, and the number who were not rated, in the previous year and who returned to serve in the same high-need school in the LEA.

Measure 4. The number of school districts participating in a TIF grant that use educator evaluation systems to inform the following human capital decisions: recruitment; hiring; placement; retention; dismissal; professional development; tenure; promotion; or all of the above.

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Miriam Lund, U.S. Department of Education, 400 Maryland Avenue SW., Room 3E245, LBJ Building, Washington, DC 20202-6200. Telephone: (202) 205-5224 or by email: TIF4@ed.gov.

If you use a TDD or a TTY, call the FRS, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice. Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Delegation of Authority: The Secretary of Education has delegated authority to Michael Yudin, Deputy Assistant Secretary for Policy for Elementary and Secondary Education to perform the functions and duties of the Assistant Secretary for Elementary and Secondary Education.

Dated: June 7, 2012.
Michael Yudin,
Deputy Assistant Secretary for Policy, and Strategic Initiatives, Delegated, the Authority to Perform the Functions, and Duties of the Assistant, Secretary for Elementary and Secondary, Education.

[FR Doc. 2012-14269 Filed 6-13-12; 8:45 am]

BILLING CODE 4000-01-P